INTERNATIONAL TRADE COMMISSION

[Investigation No. 337-TA-1150]

Certain Data Transmission Devices, Components Thereof, Associated Software, and Products Containing the Same; Commission Determination Not To Review an Initial Determination To Terminate the Investigation With Respect to All Name Respondents Based on Withdrawal of the Complaint; and Termination of the Investigation

AGENCY: U.S. International Trade Commission.

ACTION: Notice.

SUMMARY: Notice is hereby given that the U.S. International Trade Commission (the “Commission”) has determined not to review an initial determination (“ID”) (Order No. 8) to terminate the investigation with respect to all named respondents based on the withdrawal of the complaint. The investigation is terminated.

FOR FURTHER INFORMATION CONTACT: Carl P. Bretscher, Office of the General Counsel, U.S. International Trade Commission, 500 E Street SW, Washington, DC 20436, telephone (202) 205-2382. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's Electronic Docket Information System (“EDIS”) (https://edis.usitc.gov). Hearing-impaired persons are advised that information on this matter can be obtained by contacting the Commission's TDD terminal, telephone (202) 205-1810.

SUPPLEMENTARY INFORMATION: On April 5, 2019, the Commission instituted the present investigation based on a complaint filed by Data Scape Ltd. of Sandyford, Ireland, and C-Scape Consulting Corp. of Rockville Centre, New York (collectively, “Complainants”). 84 FR 13717 (April 5, 2019). The complaint alleges violations of 19 U.S.C. 1337, as amended (“Section 337”), in the importation, sale for importation, and sale in the United States after importation of certain data transmission devices, components thereof, associated software, and products containing the same that allegedly infringe one or more of the asserted claims of U.S. Patent Nos. 7,720,929; 7,617,537; and 8,386,581. Id. The notice of investigation named the following respondents: Verizon Communications, Inc. (“VCI”) of New York, New York; Cellco Partnership d/b/a Verizon Wireless of Basking Ridge, New Jersey (“Verizon Wireless”); Apple Inc. of Cupertino, California; Amazon.com, Inc. of Seattle, Washington; and Amazon Digital Services, LLC of Seattle, Washington (collectively, “Respondents”). The Office of Unfair Import Investigations (“OUII”) was also named as a party. Id.

The Commission previously terminated the investigation with respect to VCI. Order No. 6 (May 16, 2019), not reviewed, Comm'n Op. (June 16, 2019).

On May 29, 2019, Complainants filed an unopposed motion to withdraw the complaint and terminate the investigation as to all named respondents. Complainants also moved to stay the investigation's procedural schedule pending the outcome of the motion. On May 31, 2019, Respondents filed a response supporting the motion because the U.S. District Court for the Central District of California recently held that each of the patents at issue is invalid under 35 U.S.C. 101 for failure to claim patentable subject matter. On June 6, 2019, OUII also filed a response in support of the motion.

On May 30, 2019, the presiding administrative law judge (“ALJ”) issued Order No. 7, granting the request to stay the procedural schedule. On June 13, 2019, the ALJ issued the subject ID (Order No. 8) granting the motion to terminate the investigation. No party filed a petition to review the subject ID.

The Commission has determined not to review the subject ID. This investigation is terminated.

The authority for the Commission's determination is contained in Section 337 of the Tariff Act of 1930, as amended (19 U.S.C. 1337), and in Part 210 of the Commission's Rules of Practice and Procedure (19 CFR part 210).

By order of the Commission.
Issued: July 10, 2019.
Lisa Barton,
Secretary to the Commission.

[FR Doc. 2019-15011 Filed 7-15-19; 8:45 am]

BILLING CODE 7020-02-P